DEPARTMENT OF EDUCATION

Migrant Education Formula Grant Program

AGENCY: Office of Elementary and Secondary Education, Department of Education.

ACTION: Notice of interpretation.

SUMMARY: Section 1303(a) and (b) of the Elementary and Secondary Education Act of 1965 (ESEA), as amended by the No Child Left Behind Act of 2001 (NCLB), provides for the allocation of Migrant Education Program (MEP) funds to States, the District of Columbia, and the Commonwealth of Puerto Rico (Puerto Rico). The Department announces that the interpretations of these provisions for Fiscal Year (FY) 2003, published in the Federal Register on June 11, 2003 (68 FR 34911), shall continue to apply for FY 2004 and those subsequent fiscal years in which the amount of funds appropriated for the MEP does not exceed the amount appropriated in FY 2002.

DATES: Effective date: April 2, 2004.

FOR FURTHER INFORMATION CONTACT: James English, Office of Migrant Education, U.S. Department of Education, 400 Maryland Avenue, SW., Room 3E315, Washington, DC 20202-6135. Telephone: (202) 260-1394, or via Internet: james.english@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Background

The MEP, authorized in Title I, part C, of the ESEA, as amended by NCLB, is a State-operated and State-administered formula grant program. It provides assistance to State educational agencies (SEAs) to support high-quality and comprehensive educational programs that provide migratory children appropriate educational and supportive services that address their special needs in a coordinated and efficient manner, and give migratory children the opportunity to meet the same challenging State academic content and student academic achievement standards that all children are expected to meet. Funds are allocated to SEAs under a formula authorized under section 1303 of the ESEA, as amended by NCLB.

Through this notice, the Department announces that its interpretations of the formula for awarding FY 2003 MEP funds to States, including the District of Columbia and Puerto Rico, as published in the Federal Register on June 11, 2003 (68 FR 34911), shall apply to the Department's allocation of MEP funds in FY 2004 and those succeeding fiscal years in which the amount of funds appropriated for the MEP does not exceed the amount appropriated in FY 2002. The Department continues to apply these interpretations for the reasons identified in the June 11, 2003, notice.

Waiver of Proposed Rulemaking

Under the Administrative Procedure Act (5 U.S.C. 553) the Department generally offers interested parties the opportunity to comment on proposed regulations. However, under 5 U.S.C. 553(b)(A) the Secretary is generally not required to offer the public an opportunity to comment on an interpretative rule. These rules advise the public of our interpretation of sections 1303(a) and (b) of the ESEA, as amended by NCLB. Therefore, under 5 U.S.C. 553(b)(A), the Secretary has determined that proposed rulemaking is not required. For the same reason, a delayed effective date is not required under 5 U.S.C. 553(d)(2).

Intergovernmental Review

This program is subject to Executive Order 12372 and the regulations in 34 CFR part 79. One of the objectives of the Executive order is to foster an intergovernmental partnership and a strengthened federalism. The Executive order relies on processes developed by State and local governments for coordination and review of proposed federal financial assistance.

This document is intended to provide early notification of our specific plans and actions for this program.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.011: Title I, Education of Migrant Children.)

Dated: March 29, 2004.
Raymond Simon,
Assistant Secretary for Elementary and Secondary Education.

[FR Doc. 04-7508 Filed 4-1-04; 8:45 am]

BILLING CODE 4000-01-P